DEPARTMENT OF TRANSPORTATION

Federal Motor Carrier Safety Administration

[Docket No. FMCSA-2006-26367]

Motor Carrier Safety Advisory Committee; Request for Nominations

AGENCY: Federal Motor Carrier Safety Administration (FMCSA), DOT.

ACTION: Request for Nominations to the Motor Carrier Safety Advisory Committee (MCSAC).

SUMMARY: The FMCSA is soliciting nominations for interested persons to serve on the MCSAC. Composed of motor carrier safety stakeholders from the safety advocacy, safety enforcement, industry, and labor sectors, MCSAC is charged with providing advice and recommendations to the FMCSA Administrator and Secretary of Transportation on the needs, objectives, plans, approaches, content, and accomplishments of Federal motor carrier safety programs and Federal motor carrier safety regulations. Nominations will be accepted electronically only.

DATES: Nominations for MCSAC must be received on or before November 30, 2020. Nominations received after the above due date may be retained for evaluation for future MCSAC vacancies after all other nominations received by the due date have been evaluated and considered.

ADDRESSES: Nominations can be submitted electronically to the email address listed in the FOR FURTHER INFORMATION CONTACT section.

FOR FURTHER INFORMATION CONTACT: Ms. Shannon L. Watson, Deputy Designated Federal Officer, MCSAC, at (202) 385-2395 or via email at MCSAC@dot.gov.

SUPPLEMENTARY INFORMATION:

I. Background

Section 4144 of the Safe, Accountable, Flexible, Efficient Transportation Equity Act: A Legacy for Users (SAFETEA-LU) (Pub. L. 109-59, August 10, 2005), required the Secretary to establish MCSAC. The MCSAC was established on September 8, 2006, and was most recently renewed on September 29, 2019 for two years. The Committee provides advice and recommendations to the Secretary of Transportation through the Administrator of FMCSA on the needs, objectives, plans, approaches, content, and accomplishments of motor carrier safety programs and regulations. The Agency is required under FACA to appoint members of diverse views and interests to ensure the committee is balanced with appropriate consideration of background.

Under its charter, the Committee is composed of up to 25 members appointed by the Secretary for terms of up to two years, selected from among individuals who are specially qualified to represent the interests and opinions of the motor carrier industry, safety advocates, labor, and safety enforcement officials. Members of a single enumerated interest group may not constitute a majority.

Committee members serve without pay. Members may be entitled to reimbursement of expenses relating to per diem, and travel when attending meetings of the Committee as authorized under Section 5703 of Title 5, United States Code and the Federal Travel Regulation, 41 CFR part 301. FMCSA anticipates holding Committee meetings two to three times each year. Meetings are open to the public, except as provided under the Federal Advisory Committee Act (FACA) (5 U.S.C. App. 2).

II. Qualifications

The FMCSA seeks nominations for membership to MCSAC for representative members and Special Government Employees (SGEs) with specialized experience, education, training in commercial motor vehicle (CMV) issues. Representative nominees must represent one of the four sectors of membership—safety advocacy, safety enforcement, industry, or labor. Individuals appointed solely for their expertise will be appointed as SGEs. Individuals selected to serve as SGEs are subject to certain Federal conflict of interest laws and will be required to meet applicable financial disclosure and ethics training requirements. Committee members must not be officers or employees of the Federal Government.

Committee members must be able to attend two to three meetings each year, either by videoconference or in person. Interested persons should have a commitment to transportation safety, knowledge of transportation issues, experience on panels that deal with transportation safety, and a record of collaboration and professional experience on CMV safety issues. For further information about MCSAC, including reports, meeting minutes, and membership information, please visit the website at www.fmcsa.dot.gov/mcsac. This notice seeks to fill current and future vacancies on the MCSAC.

III. Description of Duties

The committee is advisory only. Duties include the following:

a. Gathering information as necessary to discuss issues presented by the Designated Federal Officer (DFO);

b. Deliberating on issues relevant to commercial motor vehicle safety; and

c. Providing written consensus advice to the Secretary.

III. Materials to Submit

Candidates are required to submit, in full, the following materials to be considered for MCSAC membership. Failure to submit the required information may disqualify a candidate from the review process.

a. A short biography of the nominee, including professional and academic credentials.

b. A résumé or curriculum vitae, which must include relevant job experience, qualifications, as well as contact information (email, telephone, and mailing address).

c. A one-page statement describing how the candidate will benefit the MCSAC, considering current membership and the candidate's unique perspective that will advance the conversation. This statement must also identify a primary and secondary interest to which the candidate's expertise best aligns. Finally, candidates should state their previous experience on Federal Advisory Committees (if any), their level of knowledge in their above stakeholder groups, and the size of their constituency they represent or can reach.

Up to three letters of recommendation may be submitted, but are not required. Each letter may be no longer than one page. Nominations are open to all individuals without regard to race, color, religion, sex, national origin, age, mental or physical disability, marital status, sexual orientation or gender identity. Individuals may self-nominate. Evaluations will be based on the materials submitted.

An email confirmation from the FMCSA will be sent upon receipt of all complete nominations that meet the criteria in this section. The FMCSA will notify those appointed by the Secretary to serve on the MCSAC.

James W. Deck,
Deputy Administrator.

[FR Doc. 2020-23969 Filed 10-28-20; 8:45 am]

BILLING CODE 4910-EX-P